DEPARTMENT OF ENERGY

Federal Energy Regulatory Commission

[Project No. 5867-054]

Alice Falls Hydro, LLC; Notice of Intent To Prepare an Environmental Assessment

On September 29, 2021, Alice Falls Hydro, LLC filed an application for a new major license for the 2.1-megawatt Alice Falls Hydroelectric Project (Alice Falls Project or project; FERC No. 5867). The Alice Falls Project is located on the Ausable River, in the Town of Chesterfield, Clinton and Essex counties, New York.

In accordance with the Commission's regulations, on February 16, 2023, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the Alice Falls Project.

The EA will be issued and circulated for review by all interested parties. All comments filed on the EA will be analyzed by staff and considered in the Commission's final licensing decision.

The application will be processed according to the following schedule. Revisions to the schedule may be made as appropriate.

Milestone | Target date
Commission issues EA | December 2023.¹
Comments on EA | January 2024.
¹ The Council on Environmental Quality's (CEQ) regulations under 40 CFR 1501.10(b)(1) require that EAs be completed within 1 year of the federal action agency's decision to prepare an EA. This notice establishes the Commission's intent to prepare an EA for the Alice Falls Project. Therefore, in accordance with CEQ's regulations, the EA must be issued within 1 year of the issuance date of this notice.

Any questions regarding this notice may be directed to Nicholas Tackett at (202) 502-6783 or nicholas.tackett@ferc.gov.

Dated: April 24, 2023.
Kimberly D. Bose,
Secretary.

[FR Doc. 2023-09027 Filed 4-27-23; 8:45 am]

BILLING CODE 6717-01-P